DEPARTMENT OF AGRICULTURE

National Institute of Food and Agriculture

Notice of Intent for Reinstatement, Without Change, of a Previously Approved Information Collection for Which Approval Has Expired

AGENCY: National Institute of Food and Agriculture, USDA

ACTION: Notice and request for comments.

SUMMARY: In accordance with the Office of Management and Budget (OMB) regulations that implement the Paperwork Reduction Act of 1995, this notice announces the National Institute of Food and Agriculture's (NIFA) intention to request approval for the reinstatement, without change, of a previously approved information collection for which approval has expired for Children, Youth, and Families at Risk (CYFAR).

DATES: Written comments on this notice must be received by May 1, 2020 to be assured of consideration. Comments received after that date will be considered to the extent practicable.

ADDRESSES: Written comments concerning this notice and requests for copies of the information collection may be submitted by any of the following methods: Email: robert.martin3@usda.gov; Mail: Office of Information Technology (OIT), NIFA, USDA, STOP 2216, 1400 Independence Avenue SW, Washington, DC 20250-2216.

FOR FURTHER INFORMATION CONTACT: Robert Martin, eGovernment Program Leader; Phone: 202-445-5388; Email: robert.martin3@usda.gov.

SUPPLEMENTARY INFORMATION:

Title: Children, Youth, and Families at Risk (CYFAR) Year End Report.

OMB Number: 0524-0043.

Expiration Date of Approval: July 31, 2019.

Type of Request: Intent to seek reinstatement, without change, of a previously approved information collection for which approval has expired, for three years.

Abstract: Funding for the Children, Youth, and Families at Risk (CYFAR) community project grants is authorized under section 3(d) of the Smith-Lever Act (7 U.S.C. 341 et seq.), as amended, and other relevant authorizing legislation, which are jurisdictional basis for the establishment and operation of Extension educational work for benefit of youth and families in communities. CYFAR funding program supports community-programs serving children, youth, and families in at-risk environments.

CYFAR funds are intended to support the development of high quality, effective programs based on research and to document the impact of programs on intended audiences. The CYFAR Year Report collects demographic and impact data from each community site to conduct impact evaluations of the programs on its intended audience.

The collection of information serves several purposes. It allows NIFA staff to gauge if the program is reaching the target audience and make programmatic improvements. This collection also allows program staff to demonstrate the impacts and capacity that is developed in the locales where federal assistance is provided.

The evaluation processes of CYFAR are consistent with the requirements of Congressional legislation and OMB. The Government Performance and Results Act (GPRA) of 1993 (Pub. L. 103-62), the Federal Activities Inventory Reform Act (FAIR) (Pub. L. 105-207), and the Agricultural, Research, Extension and Education Reform Act (AREERA) of 1998 (Pub. L. 105-185), together with OMB requirements, support the reporting requirements requested in this information collection. One of the five Presidential Management Agenda evaluation to be conducted is to determine whether federally funded agricultural research, extension, and education programs result in public goods that have national or multi-state significance.

The immediate need of this information collection is to provide a means for satisfying accountability requirements. The long term objective is to provide a means to enable the evaluation and assessment of the effectiveness of programs receiving federal funds and to fully satisfy requirements of performance and accountability legislation in GPRA, the FAIR Act, and AREERA.

Estimate of Burden: There are currently CYFAR projects in 40 states. Each state and territory is required to submit an annual year-end report which includes demographic and impact data on each of the community projects.

NIFA estimates the burden of this collection to be 322 hours per response. There are currently 51 respondents, thus making the total annual burden of this collection an estimated 12,880 hours.

Respondents: Individuals, households, business or other for-profit or not-for-profit institutions.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Done in Washington, DC, this 20th day of February 2020.
Stephen L. Censky,
Deputy Secretary, U.S. Department of Agriculture.

[FR Doc. 2020-04156 Filed 2-28-20; 8:45 am]

BILLING CODE 3410-22-P